DEPARTMENT OF AGRICULTURE

U.S. Codex Office

Codex Alimentarius Commission: Meeting of the Codex Alimentarius Commission

AGENCY: U.S. Codex Office, USDA.

ACTION: Notice of public meeting and request for comments.

SUMMARY: The U.S. Codex Office is sponsoring a public meeting on November 14, 2024. The objective of the public meeting is to provide information and receive public comments on agenda items and draft U.S. positions to be discussed at the 47th Session of the Codex Alimentarius Commission (CAC47), which will meet in Geneva, Switzerland from November 25, 2024 to November 30, 2024. The U.S. Manager for Codex Alimentarius and the Under Secretary for Trade and Foreign Agricultural Affairs recognize the importance of providing interested parties the opportunity to obtain background information on the 47th Session of the CAC and to address items on the agenda.

DATES: The public meeting is scheduled for November 14, 2024 from 1:00-4:00 p.m. ET.

ADDRESSES: The public meeting will take place via Video Teleconference only. Documents related to the 47th Session of the CAC will be accessible via the internet at the following address: https://www.fao.org/fao-who-codexalimentarius/meetings/detail/en/?meeting=CAC&session=47. The U.S. Delegate to the 47th Session of CAC invites interested U.S. parties to submit their comments electronically to the following email addresses: Ken.Lowery@usda.gov and uscodex@uda.gov.

Registration: Attendees may register to attend the public meeting here: https://www.zoomgov.com/meeting/register/vJIscO2gqTksGsA8Tkj9C4wKEgJcqBY5PMI. After registering, you will receive a confirmation email containing information about joining the meeting.

For further information about the 47th Session of the CAC, contact Kenneth Lowery, Senior International Issues Analyst, U.S. Codex Office, Office of the Under Secretary for Trade and Foreign Agricultural Affairs, by email at: Ken.Lowery@usda.gov. For further information about the public meeting, contact the U.S. Codex Office by email at: uscodex@usda.gov.

SUPPLEMENTARY INFORMATION:

Background

The Codex Alimentarius Commission was established in 1963 by two United Nations organizations: the Food and Agriculture Organization (FAO) and the World Health Organization (WHO). Through adoption of food standards, codes of practice, and other guidelines developed by its committees, and by promoting their adoption and implementation by governments, Codex seeks to protect the health of consumers and ensure fair practices in the food trade; promotes coordination of all food standards work undertaken by international governmental and nongovernmental organizations; determines priorities, initiates, and guides the preparation of draft standards; finalizes the standards elaborated and publishes them in the Codex Alimentarius (food code) either as regional or worldwide standards, wherever this is practicable; and amends published standards, as appropriate, in the light of new developments.

Issues To Be Discussed at the Public Meeting

The following items on the agenda for the 47th Session of CAC will be discussed during the public meeting:

• Report by the Chairperson on the 86th and 87th Sessions of the Executive Committee (including matters referred)

• Amendments to the Procedural Manual

• Work of Codex Committees (adoption, new work, revocation, discontinuation, and amendments to Codex texts proposed by the following committees):

○ Codex Committee on Spices and Culinary Herbs

○ Codex Committee on Fats and Oils

○ Codex Committee on Food Hygiene

○ Codex Committee on Contaminants in Foods

○ Codex Committee on Food Additives

○ Codex Committee on Methods of Analysis and Sampling

○ Codex Committee on Pesticide Residues

○ FAO/WHO Coordinating Committee for Latin American and the Caribbean

○ Codex Committee on Food Import and Export Inspection and Certification Systems

○ Codex Committee on Nutrition and Foods for Special Dietary Uses

○ Codex Committee on Fish and Fishery Products

○ Codex Committee on Residues of Veterinary Drugs in Foods

○ Codex Committee on Food Labelling

• Proposals for new work

• Other Matters Relating to Codex Subsidiary Bodies

• Editorial Amendments to Codex texts proposed by the Codex Secretariat

• Codex Budgetary and Financial Matters

• Reports of the FAO/WHO Coordinating Committees

• Codex Strategic Plan 2020 to 2025, Implementation Report 2022 to 2023

• Codex Strategic Plan 2026 to 2031

• Matters Arising from FAO/WHO

• Potential Webcasting of the Executive Committee

• Election of the Chairperson and Vice-Chairpersons, Members of the Executive Committee Elected on a Geographical Basis, and Appointment of Coordinators

• Designation of Countries Responsible for Appointing the Chairpersons of Codex Subsidiary Bodies

• Other Business

• Adoption of the Report

Relevant documents are or will be available at the following address: https://www.fao.org/fao-who-codexalimentarius/meetings/detail/en/?meeting=CAC&session=47.

Public Meeting

At the November 14, 2024, public meeting, draft U.S. positions on the agenda items will be described and discussed, and attendees will have the opportunity to pose questions and offer comments. Written comments may be offered at the meeting or sent to Ken.Lowery@usda.gov and uscodex@usda.gov. Written comments should state that they relate to activities of the 47th Session of CAC.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on October 7, 2024.
Julie A. Chao,
Deputy U.S. Manager for Codex Alimentarius.

[FR Doc. 2024-23454 Filed 10-9-24; 8:45 am]

BILLING CODE 3420-3F-P